DEPARTMENT OF HEALTH AND HUMAN SERVICES

Center for Indigenous Innovation and Health Equity Supporting Native Hawaiian and Pacific Islander and American Indian/Alaska Native Populations

AGENCY: Office of Minority Health, U.S. Department of Health and Human Services (HHS).

ACTION: Request for information.

SUMMARY: The U.S. Department of Health and Human Services (HHS) Office of Minority Health (OMH) seeks input from Federally-recognized Indian Tribes/American Indian and Alaska Native (AI/AN) Tribes, Tribal organizations, Tribal-serving organizations, Tribal Colleges and Universities, and AI/AN—serving institutions of higher education to guide the development of a new Center for Indigenous Innovation and Health Equity (Center). This is NOT a solicitation for proposals or proposal abstracts.

Please Note: This request is for information (RFI) is for planning purposes only. It is not a notice for a proposal and does not commit the federal government to issue a solicitation, make an award, or pay any costs associated with responding to this announcement. All submitted information shall remain with the federal government and will not be returned. All responses will become part of the public record and will not be held confidential. The Federal Government reserves the right to use information provided by respondents for purpose deemed necessary and legally appropriate. Respondents are advised that the Federal Government is under no obligation to acknowledge receipt of the information received or provide feedback to respondents with respect to any information submitted. Responses will not be accepted after the due date. After a review of the responses received, a notice of funding opportunity or pre-solicitation synopsis and solicitation may be published.

A separate RFI exists to solicit feedback from Native Hawaiian and Pacific Island (NHPI) communities.

DATES: To be assured consideration, written comments must be submitted and received at the address provided below, no later than 11:59 p.m. on March 14, 2021.

ADDRESSES: OMH invites the submission of the requested information through one of the following methods:

• Preferred method: Submit information through the Federal eRulemaking Portal at http://www.regulations.gov. Follow the online instructions for submissions.

• Email: Send comments to Paul.Rodriguez@hhs.gov with the subject line “OMH AI/AN RFI: Center for Indigenous Innovation and Health Equity.”

Submissions received after the deadline will not be reviewed. Respond concisely and in plain language. You may use any structure or layout that presents your information well. You may respond to some or all of our questions, and you can suggest other factors or relevant questions. You may also include links to online material or interactive presentations. Clearly mark any proprietary information and place it in its own section or file. Your response will become government property, and we may publish some of its non-proprietary content.

FOR FURTHER INFORMATION CONTACT: Paul Rodriguez, 1101 Wootton Parkway, Suite 100, Rockville, MD 20852, (240) 453-8208, Paul.Rodriguez@hhs.gov.

SUPPLEMENTARY INFORMATION:

I. Background Information

The Office of Minority Health

Authorized under Section 1707 of the Public Health Service Act, 42 U.S.C. 300u-6, as amended, the mission of OMH is to improve the health of racial and ethnic minority populations through the development of health policies and programs that help eliminate health disparities. OMH awards and other activities are intended to support the identification of effective policies, programs and practices for improving health outcomes and to promote sustainability and dissemination of these approaches.

Under the authority of Public Law 116-260 (2021 Consolidated Appropriations Act), Congress called for the creation of a Center for Indigenous Innovation and Health Equity to support efforts including research, education, service, and policy development related to advancing Indigenous solutions to decrease health disparities in the AI/AN and NHPI populations.

Background

Heath disparities in the AI/AN population in the United States include higher rates of chronic diseases, unintentional injuries and premature deaths. The average life expectancy for an AI/AN born today would be 4.4 fewer years than for an individual of any other race. Empirical evidence indicates that many factors influence health, and the strongest predictors of chronic disease, unintentional injury, and premature death are linked to the social determinants of health in AI/AN communities.

Identification and awareness of health outcomes and health determinants in AI/AN populations are essential steps towards reducing health disparities.¹ Research has shown that community-driven interventions have a positive impact on health outcomes.²

¹ Centers for Disease Control and Prevention. CDC Health Disparities and Inequalities Report—United States, 2013. MMWR 2013;62 (Suppl 3). Retrieved December 7, 2020 from https://www.cdc.gov/mmwr/pdf/other/su6203.pdf.

² O'Mara-Eves A., Brunton G., Oliver S., Kavanagh J., Jamal F., Thomas J. The effectiveness of community engagement in public health interventions for disadvantaged groups: A meta-analysis. BMC Public Health. 2015;15:129. Published 2015 Feb 12. doi:10.1186/s12889-015-1352-y.

Program Information

The purpose of this initiative is to create a Center for Indigenous Innovation and Health Equity (Center) to provide services for American Indian and Alaska Native and Native Hawaiian and Pacific Islander populations that draws on deeply-rooted indigenous values and practices.

The Center should serve as a coordinating entity that will partner with accredited academic institutions with a focus on Indigenous health research, policy and innovation among AI/AN and NHPI populations. The Center will serve to build capacity and to support efforts including research, education, service, and policy development related to advancing Indigenous solutions. Work in these areas will increase the capacity to identify and address health disparities in AI/AN and NHPI communities. The Center is highly encouraged to engage Indigenous leaders and community partners to address AI/AN and NHPI health disparities focus areas that align with their goals and priorities. The Center is expected to use a dual track approach to address each populations' needs and tailor indigenous knowledge and practice specific to the AI/AN and NPHI populations. Each track will be parallel and complementary, both rooted in indigenous values and practices appropriate to each population.

The Center's objectives may include:

• Create an indigenous public health agenda focused on research needs, education, services, and health policies to address AI/AN and NHPI health disparities.

• Serve as a resource to support the development, implementation, evaluation, dissemination, and translation of evidence-based public health interventions in AI/AN and NHPI communities.

• Partner with academic institutions and Indigenous leaders and community partners in health disparities focus areas.

• Train AI/AN and NHPI public health, medical practitioners, students and multi-sector partners.

The Center's outcomes may include:

• Expand community capacity and knowledge to develop evidence-based program solutions, best practices and policies that address health disparities in AI/AN and NHPI populations.

• Increase utilizations of effective strategies and tools to improve and reduce AI/AN and NHPI health disparities.

• Contribute to improved AI/AN and NHPI health, elimination of health disparities, and achievement of health equity.

II. Request for Information

Through this RFI, OMH is seeking information from the following entities:

Federally-recognized Indian Tribes/American Indian and Alaska Native (AI/AN) Tribes, Tribal organizations, Tribal-serving organizations, Tribal Colleges and Universities, and AI/AN-serving institutions of higher education.

A separate RFI exists to solicit feedback from Native Hawaiian and Pacific Islander (NHPI) communities.

III. Questions

• How might the proposed Center objectives and outcomes listed above meet the needs of AI/AN populations?

• What is the recommended composition and governance infrastructure for the Center?

• Are there specific focus areas and activities this center should address?

Dated: February 9, 2021.
Paul Rodriguez,
Senior Advisor for Operations, Office of Minority Health.

[FR Doc. 2021-02953 Filed 2-11-21; 8:45 am]

BILLING CODE 4150-29-P